DEPARTMENT OF COMMERCE

National Oceanic and Atmospheric Administration

[RTID 0648-XE305]

South Atlantic Fishery Management Council; Public Meetings

AGENCY: National Marine Fisheries Service (NMFS), National Oceanic and Atmospheric Administration (NOAA), Commerce.

ACTION: Notice of a public meeting.

SUMMARY: The South Atlantic Fishery Management Council's (Council) will hold a meeting of the Outreach and Communications Advisory Panel (AP) October 9-10, 2024. The meeting will be held in North Charleston, SC.

DATES: The Outreach and Communications AP meeting will be held October 9, 2024, from 9 a.m. until 5 p.m. and October 10, 2024, from 9 a.m. until 12 p.m.

ADDRESSES:

Meeting address: The meeting will be held at the Embassy Suites by Hilton Charleston Airport, 5055 International Blvd., North Charleston, SC 29418; phone: (843) 747-1882. The meeting is open to the public and will also be available via webinar.

Webinar registration, an online public comment form, and briefing book materials will be available two weeks prior to the meeting at: https://safmc.net/advisory-panel-meetings/.

Council address: South Atlantic Fishery Management Council, 4055 Faber Place Drive, Suite 201, North Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Agenda items for the Outreach and Communications AP meeting include: updates from AP members on recent outreach and communication efforts and needs; update on the Council's Best Fishing Practices Program and the Citizen Science Program and projects; a review of the Council's draft Habitat Blueprint relative to outreach and communication needs; and an update on the Council's digital communications efforts and needs. AP members will also receive an update on port meetings conducted for the mackerel fishery in 2024 and plans to conduct stakeholder meetings in 2025. The AP will review draft outreach documents being developed for the upcoming 50th anniversary of the regional fishery management councils and the Magnuson-Stevens Fishery Conservation and Management Act. The AP will address other business as needed and provide recommendations for Council consideration.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 18, 2024.
Rey Israel Marquez,
Acting Deputy Director, Office of Sustainable Fisheries, National Marine Fisheries Service.

[FR Doc. 2024-21691 Filed 9-20-24; 8:45 am]

BILLING CODE 3510-22-P